DEPARTMENT OF THE INTERIOR

Fish and Wildlife Service

Meeting of the Alaska Migratory Bird Co-management Council

AGENCY: Fish and Wildlife Service, Interior.

ACTION: Notice of meeting.

SUMMARY: The Alaska Migratory Bird Co-management Council has scheduled a public meeting to develop recommendations for regulations for the spring/summer migratory bird subsistence harvest for the period March 10 to September 1, 2002. In addition to developing recommended regulations, the Co-management Council will finalize by-laws which will guide future deliberations of the Council.

DATES: The Co-management Council will meet February 26-28, 2001.

ADDRESSES: The meeting will be conducted at the Hawthorn Suites Hotel at 1110 W. 8th Avenue in Anchorage, Alaska.

FOR FURTHER INFORMATION CONTACT: For additional information call Mimi Hogan at 907/786-3673 or Bob Stevens at 907/786-3499. Individuals with a disability who may need special accommodations in order to participate in the public comment portion of the meeting should call one of the above numbers.

SUPPLEMENTARY INFORMATION: The U.S. Fish and Wildlife Service formed the Alaska Migratory Bird Co-Management Council, which includes Native, state, and federal representatives as equals, by means of a Notice of Decision published in the Federal Register, 65 FR 16405-16409, March 28, 2000. Amended migratory bird treaties with Canada and Mexico required the formation of such a management body. The Co-management Council will make recommendations for, among other things, regulations for spring/summer harvesting of migratory birds in Alaska. In addition to creation of the Co-management Council, the Notice of Decision identified seven geographic regions. Each region will submit to the Co-management Council requests for specific regulations for its area. The Co-management Council will then develop recommendations for statewide regulations and submit them to the Fish and Wildlife Service for approval.

The meeting of the Co-management Council will begin on Monday, February 26 at 1:00 p.m. Sessions on February 27 and 28 will begin at 8:00 a.m. The public is invited to attend. The Co-management Council will provide opportunities for public comment on agenda items. Agendas will be available at the door.

Dated: January 19, 2001.
David B. Allen,
Regional Director, Anchorage, Alaska.

[FR Doc. 01-2588 Filed 2-7-01; 8:45 am]

BILLING CODE 4310-55-P